ENVIRONMENTAL PROTECTION AGENCY

40 CFR Part 147

[EPA-R05-OW-2019-0705; FRL-10007-93-Region 5]

Request for Comments on Michigan Underground Injection Control Class II Program Application

AGENCY: Environmental Protection Agency (EPA).

ACTION: Notice of public comment period and public hearing.

SUMMARY: The U.S. Environmental Protection Agency (EPA) gives public notice that the EPA has received a complete application from the State of Michigan requesting federal authorization for its Underground Injection Control (UIC) Program for wells that are used only to inject fluids associated with oil and natural gas production, known as Class II injection wells. EPA has determined the application contains all the required elements. EPA approval of this application would allow the Michigan Department of Environment, Great Lakes, and Energy to regulate all Class II injection wells in Michigan except for those on “Indian lands.” See the ADDRESSES section for information on how to access the application documents. Public comments are requested, and a public hearing is scheduled.

DATES: Comments will be accepted on or before June 5, 2020. A public hearing will be held before that date. For additional information regarding the public hearing, please see the SUPPLEMENTARY INFORMATION section or contact Anna Miller, UIC Section, U.S. Environmental Protection Agency, 77 West Jackson Boulevard, Chicago, Illinois; telephone number: (312) 886-7060; email address: miller.anna@epa.gov.

ADDRESSES: You may send comments, identified by Agency Docket ID No. EPA-R05-OW-2019-0705, by any of the following methods:

• Federal Portal (our preferred method): https://www.regulations.gov/docket?D=EPA-R05-OW-2019-0705. Follow the online instructions for submitting comments.

• Mail: U.S. Environmental Protection Agency Region 5, UIC Section, WP-16J, ATTN: Michigan Class II Application Docket, 77 West Jackson Boulevard, Chicago, Illinois 60604.

Instructions: All submissions received must include the Docket ID Number, EPA-R05-OW-2019-0705. Comments received may be posted without change to https://www.regulations.gov/, including any personal or confidential business information provided. For detailed instructions on sending comments and additional information on the rulemaking process, see the “Public Participation” heading of the SUPPLEMENTARY INFORMATION section of this document.

FOR FURTHER INFORMATION CONTACT: Anna Miller, UIC Section, U.S. Environmental Protection Agency, 77 West Jackson Boulevard, Chicago, Illinois; telephone number: (312) 886-7060; email address: miller.anna@epa.gov.

SUPPLEMENTARY INFORMATION:

I. Summary

The State of Michigan has submitted an application pursuant to section 1425 of the Safe Drinking Water Act and 40 CFR part 147 to regulate Class II injection wells in the State. EPA approval of this application would allow the Michigan Department of Environment, Great Lakes, and Energy (EGLE) to regulate all Class II injection wells in Michigan except for those on “Indian lands.”

EPA has determined that the application is complete because it contains all of the requirements including: A letter from the Governor requesting program approval; a complete description of the State Underground Injection Control program; a statement of legal authority; a memorandum of agreement between the State of Michigan and the EPA, Region 5; and copies of all applicable rules and forms. This notice is not an EPA decision or action to approve or disapprove the application; EPA is requesting comments on the application prior to making a decision to approve or disapprove the application.

II. Documents for Review

Publicly available docket materials are available electronically in www.regulations.gov/docket?D=EPA-R05-OW-2019-0705. Materials are also available in hard copy at the following location: EGLE Lansing office at Constitution Hall, 525 West Allegan Street, Lansing, Michigan 48909, during business hours and subject to any office closures. Contact Mark Snow at (517) 230-8233 or at SnowM@Michigan.gov for more information.

III. Public Participation

A. Written comments

Submit your comments, identified by Docket ID No. EPA-R05-OW-2019-0705, at https://www.regulations.gov or the other methods identified in the ADDRESSES section. Once submitted, comments cannot be edited or withdrawn. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For the full EPA public comment policy, information about CBI or multimedia submissions, and general guidance on making effective comments, please visit http://www2.epa.gov/dockets/commenting-epa-dockets.

B. Public Hearing

A public hearing has been scheduled for those who wish to deliver comments orally. The hearing is scheduled for May 27, 2020 at the Kirtland Community College Event Center, 4800 W Four Mile Road, Grayling, MI 49738, from 6:30 p.m. to 9:30 p.m. local time.

Note: EPA may change the format and time for the May 27 hearing to virtual and regular business hours if appropriate to protect public health in the face of Coronavirus Disease 2019 (COVID 19) risks. EPA will publish notice of any such change on or before May 20, 2020 exclusively at: https://www.epa.gov/uic/underground-injection-control-epa-region-5-il-mi-mn-oh-and-wi#public-notices.

EPA will make every effort to accommodate all speakers who register to speak. The EPA will not respond to the oral comments at that time. Written statements and supporting information submitted during the comment period will be considered with the same weight as oral comments and supporting information presented at the public hearing. EPA encourages commenters to provide EPA with a copy of their oral testimony electronically or in hard copy form.

Dated: April 8, 2020.
Kurt Thiede,
Regional Administrator, Region 5.

[FR Doc. 2020-07818 Filed 4-14-20; 8:45 am]

BILLING CODE 6560-50-P